ENVIRONMENTAL PROTECTION AGENCY

40 CFR Parts 52 and 97

[EPA-R06-OAR-2016-0611; FRL-9969-07-Region 6]

Promulgation of Air Quality Implementation Plans; State of Texas; Regional Haze and Interstate Visibility Transport Federal Implementation Plan

Correction

In rule document 2017-21947, appearing on pages 48324-48380 in the issue of Tuesday, October 17, 2017, make the following correction:

On page 48370, in the first column, in the sixteenth line from the top, “97.404(b)(1)”, should read “97.904(b)(1)”.

[FR Doc. C1-2017-21947 Filed 10-31-17; 8:45 am]

BILLING CODE 1300-00-D